DEPARTMENT OF AGRICULTURE

Food Safety and Inspection Service

9 CFR Part 381

[Docket No. 04-033P]

RIN 0583-AC60

Allowing Bar-Type Cut Turkey Operations To Use J-Type Cut Maximum Line Speeds

AGENCY: Food Safety and Inspection Service, USDA.

ACTION: Proposed rule.

SUMMARY: The Food Safety and Inspection Service (FSIS) is proposing to amend the Federal poultry products inspection regulations to provide that turkey slaughter establishments that open turkey carcasses with Bar-type cuts may operate at the maximum line speeds established for J-type cuts, if the establishment uses the specific type of shackle described in this proposed rule. Under this proposed rule, as under current regulations, the inspector in charge will reduce line speeds when, in his or her judgment, the prescribed inspection procedure cannot be adequately performed within the time available because of the health conditions of a particular flock or because of other factors. Such factors include the manner in which birds are being presented to the inspector for inspection and the level of contamination among the birds on the line.

DATES: Comments must be received on or before December 8, 2005.

ADDRESSES: FSIS invites interested persons to submit comments on this proposal. Comments may be submitted by any of the following methods:

• Mail, including floppy disks or CD-ROM's, and hand- or courier-delivered items: Send to Docket Clerk, U.S. Department of Agriculture, Food Safety and Inspection Service, 300 12th Street, SW., Room 102 Cotton Annex, Washington, DC 20250.

• Federal eRulemaking Portal: Go to http://www.regulations.gov. Follow the online instructions at that site for submitting comments. Electronic mail: fsis.regulationscomments@fsis.usda.gov.

All submissions received must include the Agency name and docket number 04-033P.

All comments submitted in response to this proposal, as well as research and background information used by FSIS in developing this document, will be available for public inspection in the FSIS Docket Room at the address listed above between 8:30 a.m. and 4:30 p.m., Monday through Friday. The comments also will be posted on the Agency's Web site at http://www.fsis.usda.gov/regulations_&_policies/2005_Proposed_Rules_Index/index.asp.

FOR FURTHER INFORMATION CONTACT: Dr. Shaukat Syed, Director, New Technology Staff, Office of Policy, Program, and Employee Development, Food Safety and Inspection Service, U.S. Department of Agriculture, Washington, DC 20250; (202) 205-0675.

SUPPLEMENTARY INFORMATION:

Background

The Poultry Products Inspection Act (PPIA) requires post-mortem inspection of all carcasses of slaughtered poultry subject to the Act and such reinspection as deemed necessary (21 U.S.C. 455(b)). Under traditional post-mortem turkey inspection, one inspector inspects the whole bird and is responsible for the proper disposition of the bird, including any required trimming, before it leaves the inspection station. Under the New Turkey Inspection (NTI) System regulations, one or two inspectors on each eviscerating line examine the whole carcass and viscera of each bird. Establishments are responsible for independently performing the necessary trimming of designated defects on passed carcasses. Establishments also must meet certain facilities requirements to use the NTI System (9 CFR 381.36(e)). The NTI System allows establishments to run their eviscerating lines at a faster rate than they can under traditional inspection.

The NTI System regulations (9 CFR 381.68) provide maximum line speeds for: (1) One inspector and two inspector lines; (2) light (under 16 pounds) and heavy (over 16 pounds) turkeys; and (3) turkeys with J-type cut openings and turkeys with Bar-type cut openings.

Some turkey slaughter establishments cut a J-type opening in the turkey carcass, which is a large abdominal opening in the turkey that facilitates the removal of the viscera. These establishments use a metal or plastic device that is inserted into the cavity of the carcass to hold the hocks. Other establishments leave a section of skin intact between the vent and body opening to secure the hocks. This type of opening is called a Bar-type cut opening.

When the final NTI System regulations were published in 1985 (50 FR 37508), because of the shackles that were used, Bar-type cut turkeys presented for inspection on a three-point suspension required an extra inspection hand motion to raise the bar-cut skin flap to observe the under side of the bar-cut skin flap and the kidney area. This extra hand motion is not necessary to inspect J-type cut turkeys. Therefore, the regulations require a slower line speed for Bar-type cut operations than for J-type cut operations. The preamble to the final NTI system regulations explains that the maximum inspection rates in these regulations were established by work measurement calculations and were based on the amount of time necessary for an inspector to properly perform the correct inspection procedure (50 FR 37511).

The NTI System regulations provide that the line speeds are for lines using standard 9-inch shackles on 12-inch centers with birds hung on every shackle and opened with J- or Bar-type openings cuts. The regulations also state that maximum rates for those establishments having varying configurations will be established by the Administrator but will not exceed those in the table in 9 CFR 381.68(c). Therefore, the regulations prohibit an establishment processing carcasses with Bar-type cuts from using the J-type cut line speeds (9 CFR 381.68(a)).

As is explained in the preamble to the final NTI System regulations, the maximum line speeds in the NTI System regulations will be achieved only when all plant conditions are optimal (50 FR 37510). The regulations state that the inspector in charge may reduce inspection line rates when, in his or her judgment, the prescribed inspection procedure cannot be adequately performed within the time available because the health conditions of a particular flock dictate a need for a more extended inspection (9 CFR 381.68(c)).

Development of Modified Shackle

In 1988, a turkey slaughter establishment developed a turkey shackle that positioned the three-point hung turkey carcasses on a shackle with a 4 inch by 4 inch selector (or kickout), a 45 degree bend of the lower 2 inches, an extended central loop portion of the shackle that lowered the abdominal cavity opening of the carcasses to an angle of 30 degrees from the vertical in direct alignment with the inspector's view, and a width of 10.5 inches. This shackle allows light to illuminate the total inside surfaces of the carcass and allows FSIS inspectors to view and properly inspect the inside surfaces of the carcass with minimal manipulation. Thus, with the modified shackles, the Bar-type cut inspection hand motions are similar to the J-type cut inspection hand motions.

After the turkey slaughter establishment installed the modified shackles, FSIS conducted a study on the effectiveness of these shackles. From April 12 to 14, 1988, on a two-inspector NTI Bar-type cut line, FSIS observed 2,000 light turkeys moving at 45 birds per minute and 3,000 heavy turkeys moving at 35 birds per minute. FSIS observed line speeds for these turkey carcasses on the modified shackles at the regulatory maximum line speeds for Bar-type cut turkeys. On a two-inspector NTI Bar-type cut line, FSIS also observed 2,000 light turkeys moving at 51 birds per minute and 3,000 heavy turkeys moving at 41 birds per minute. FSIS observed line speeds for Bar-type cut turkeys on the modified shackles at the regulatory maximum J-type cut line speeds.

Three FSIS public health veterinarians observed every third bird to get a representative sample from each of the two inspector lines. The FSIS public health veterinarians observed the whole birds to determine whether any obvious or borderline condemnable birds passed inspection. Other data FSIS collected included (1) the number of birds slaughtered on the three days that FSIS conducted this study, (2) the total numbers of light and heavy turkeys reprocessed on April 13 and 14 from lines moving at the regulatory maximum speed for Bar-type cut turkeys and lines moving at the regulatory maximum speed for J-type cut turkeys, (3) the presentation records from the week prior to the study and the days the study was conducted, and (4) the prechill and postchill Finished Product Standards (FPS) records for the week prior to testing and the days testing was performed. The FPS for turkeys are not included in the Federal poultry products inspection regulations.

FSIS evaluated the presentation records, prechill FPS data, and postchill FPS data from this study and concluded that the data showed no differences in processed turkeys attributable to the line speed changes during the period of the study or between the test period and the previous week. FSIS concluded that, in a Bar-type cut operation using the modified shackle and regulatory maximum J-type cut line speeds, establishment employees and FSIS inspectors are able to perform as well as they did when using the slower, regulatory maximum Bar-type cut line speeds. FSIS also concluded that, because the modified shackle allowed for modification of the inspection hand motions, use of the modified shackle also decreases the inspector's work load for the Bar-type cut inspection procedure.

Under 9 CFR 381.3(b), for limited periods, the Administrator may waive provisions of the regulations to permit experimentation so that new procedures, equipment, and processing techniques may be tested to facilitate definite improvements. Therefore, under this regulation, on July 21, 1989, the Administrator waived the NTI System regulations for the first establishment that installed the modified shackles, so that the Bar-type cut establishment could run at the maximum line speeds for J-type cut turkeys. That establishment is no longer using the modified shackle.

Two other turkey slaughter establishments that have Bar-type cut operations have also installed the modified shackles described above. Under 9 CFR 381.3(b), FSIS has allowed both of these establishments to run at the maximum line speeds for J-type cut turkeys. FSIS authorized one to begin operating at the faster line speeds on June 15, 2001, and the other on March 17, 2004. FSIS reviewed in-plant trial data from these establishments, including: Disposition accuracy, contamination rate, microbiological characteristics, and other product characteristics. The data show no statistical difference between turkeys processed using the modified Bar-type cut shackle running at the faster J-type cut line speeds and turkeys processed at the same establishment using the original Bar-type cut shackle (non-modified) running at the slower Bar-type cut line speeds.

On February 19, 2004, ConAgra Foods, the parent company of the establishments that process Bar-type cut turkey carcasses with modified shackles, using the faster line speeds for J-type cuts, submitted a petition to FSIS requesting that the Agency revise its regulations to allow turkey establishments that use Bar-type cuts and modified shackles to operate under the inspection rates (line speeds) established for J-type cuts. The petition stated that this revision to the regulations would not affect product quality or safety. The petition also stated that this revision to the regulations would promote fair regulatory competition in the marketplace by allowing establishments operating under the faster line speeds to better manage their assets.

Proposed Changes

Based on the in-plant trial data discussed above, FSIS agrees with ConAgra Foods that the change the company requested would not affect product quality or safety. As is discussed under the “Executive Order 12866” heading below, this rule will likely result in benefits to establishments and to FSIS. The Agency has tentatively concluded that this rule would facilitate post-mortem inspection of turkey carcasses. Therefore, consistent with the petitioner's request, FSIS is proposing to amend the NTI System regulations to provide that turkey slaughter establishments that open turkey carcasses with Bar-type cuts may operate at the maximum line speeds established for J-type cuts, if the establishment uses a shackle with a 4 inch by 4 inch selector (or kickout), a 45 degree bend of the lower 2 inches, an extended central loop portion of the shackle that lowers the abdominal cavity opening of the carcasses to an angle of 30 degrees from the vertical in direct alignment with the inspector's view, and a width of 10.5 inches.

As is discussed above, FSIS has already allowed establishments that use the modified shackle for turkey carcasses with Bar-type cut openings to operate at J-type cut line speeds under 9 CFR 381.3(b). However, FSIS may exempt establishments from regulatory requirements for a limited period of time only. For the two Bar-type cut turkey establishments that use the modified shackle and run at the maximum J-type cut line speeds to be able to run at these line speeds on a permanent basis, it is necessary that FSIS amend the regulations.

In addition, it is necessary that FSIS amend the regulations to allow all turkey slaughter establishments that may use Bar-type cut openings to run at the maximum J-type cut line speeds, provided that such establishments use the correct shackles, and provided that the health conditions of the flock or other factors do not cause the inspector in charge to reduce the line speed.

Under this proposed rule, as under current regulations, the inspector in charge could reduce line speeds when, in his or her judgment, the prescribed inspection procedure cannot be adequately performed within the time available because of the health conditions of a particular flock. In addition, this proposed rule makes clear that the inspector in charge could reduce line speeds when the prescribed inspection procedure cannot be adequately performed within the time available because of factors other than the health conditions of the flock. FSIS is proposing to amend the regulations to state that factors that could cause the inspector in charge to reduce line speeds could include the manner in which birds are being presented to the inspector for inspection and the level of contamination among the birds on the line.

This proposed change clarifies that the inspector has discretion to slow the line for reasons other than the health conditions of the flock, if the reasons are consistent with other poultry inspection regulations. The regulations concerning the young chicken and squab slaughter inspection rate maximums under traditional inspection procedure provide that the inspector in charge may reduce production line rates when the prescribed inspection procedure cannot be adequately performed within the time available, either because the birds are not presented in a manner that makes the carcasses readily accessible for inspection, or because the health conditions of a particular flock dictate a need for a more extended inspection procedure (9 CFR 381.67). Similarly, the Streamlined Inspection System (SIS) regulations provide that the inspector in charge determines the line speed based on a variety of conditions, including the health of each flock and the manner in which birds are being presented to the inspector for inspection (9 CFR 381.76(b)(1)(ii)).

Executive Order 12866

This action has been reviewed for compliance with Executive Order (EO) 12866. This rule has been designated “non-significant” and therefore has not been reviewed by the Office of Management and Budget.

Need for the Rule

This rule is necessary to provide more production options for turkey slaughter establishments. When the New Turkey Inspection system regulations were published in 1985, because of the shackles that were used, Bar-type cut turkeys presented for inspection on a three-point suspension required an extra inspection hand motion to raise the bar-cut skin flap to observe the under side of the bar-cut skin flap and the kidney area. This extra hand motion is not necessary for inspection of J-type cuts. Therefore, the regulations require a slower line speed for Bar-type cut operations than for J-type cut operations. With the modified shackle described in the proposed rule, Bar-type cut inspection hand motions are similar to the J-type cut inspection hand motions. Based on in-plant trial data, establishments that use the modified shackle to process Bar-type cut turkeys can operate under inspection using the J-type cut line speeds as effectively as they could operate under the Bar-type cut line speeds.

This rule is also necessary to make clear that the inspector in charge could reduce line speeds when, in his or her judgment, the prescribed procedure cannot be adequately performed within the time available because of factors in addition to the health conditions of a particular flock. Other factors that could cause the inspector in charge to reduce line speeds include the manner in which birds are being presented to the inspector for inspection and the level of contamination among the birds on the line.

Industry Overview

According to FSIS' Animal Disposition Reporting System (ADRS), the U.S. turkey industry consists of approximately 80 slaughter and processing establishments, of which 25 are considered very small, 30 are considered small, and 25 are considered large.¹ The total industry employs between 20,000 and 25,000 people in the United States, with thousands more employed in related industries, such as contract growing, product distribution, equipment manufacturing, and many other affiliated services.²

¹ In the preamble to the final rule entitled, “Pathogen Reduction; Hazard Analysis and Critical Control Point (HACCP) Systems,” establishments that employ between 1-9 persons and have less than $2.5 million in annual sales are considered very small; those that employ 10 to 499 persons are considered small; and those that employ 500 or more persons are considered large.

² National Turkey Federation Web site (http://www.eatturkey.com/index.html). Turkey Facts and Trivia.

Turkey companies are vertically integrated, meaning that they control or contract for all phases of production and processing—from breeding through delivery to retail. In a vertically integrated framework of turkey contracting, establishments (integrators) accept much of the risk of turkey growing in exchange for greater control over both the quality and quantity of birds. Usually, the contract calls for establishments to provide growers with chicks or poult hatchlings and feed from their own hatcheries and feed mills, veterinary services, medication, and field supervisors to monitor operations. The contract growers provide housing, equipment, labor, water, and all or most of the fuel and litter. Growers raise the birds until ready for shipment to the establishments. In their contractual arrangements with growers, establishments usually agree to pay a pre-established fee per pound for live turkeys plus a bonus or penalty for performance relative to other growers.³

³ USDA Structural Change in U.S. Chicken and Turkey Slaughter, Michael Ollinger, James MacDonald, Milton Madison, September 2000, pp. 11-12 (ERS Agricultural Economic Report Number 787).

In 2003, the number of turkeys raised in the United States was 274 million heads, weighing an average of 27.5 pounds. In 2003, the number of pounds of turkey produced was 7.5 billion pounds. At a rate of 36 cents per pound, the value of production equaled $2.7 billion. The top 10 turkey processing states in 2003 were Minnesota (1.2 billion pounds), North Carolina (1.1 billion pounds), Missouri (816 million pounds), South Carolina (494 million pounds), Virginia (492 million pounds), Arkansas (477 million pounds), California (418 million pounds), Indiana (396 million pounds), Iowa (267 million pounds), and Pennsylvania (215 million pounds).⁴ The 25 large producers accounted for 91 percent, or 6.8 billion pounds, of the 7.5 billion pounds of turkey produced in 2003.

⁴ USDA Poultry Slaughter 2003 Annual Summary, March 2004.

U.S. consumption of turkey and turkey products are estimated to be at 17 pounds per person for 2004. The most popular turkey product continues to be the whole turkey, comprising 25 percent of all turkey sales in 2003.

U.S. exports of turkey products in 2003 were 480 million pounds, comprising 9 percent of total turkey production. In 2003, the top four export markets for U.S. turkey products were Mexico (241 million pounds), Hong Kong (45 million pounds), Taiwan (30 million pounds) and Russia (25 million pounds).⁵

⁵ National Turkey Federation Statistics.

Traditionally, turkey plants have faced highly seasonal demand, with most production occurring in the last quarter of the year to accommodate the increased consumption of turkeys around Christmas and Thanksgiving. Because of a shift in consumers' taste for turkey and turkey products, consumers are consuming more turkey products such as turkey sausages, ground turkey, luncheon meat, tray packs; pre-cooked turkey products such as deli breasts, turkey ham, and turkey bacon; and other further processed turkey products on a year-round basis. More consumers are consuming turkey on a year-round basis because of health concerns and turkey's nutritional value that addresses those concerns.⁶ This trend in consumption reduces the excess capacity that plants were experiencing during much of the year to a more balanced production cycle year round. By supplying turkey and turkey products year round, turkey plants were able to stabilize production rates. Stabilized production rates lower production costs because plants are able to avoid hiring, training, laying off employees, and starting up and shutting down of facilities on a seasonal basis.

⁶ Consumers are recognizing the health benefits of turkey as a low-fat, high-protein source. National Turkey Federation Web site.

Estimated Benefits

Establishments that process Bar-type cut turkeys and install the modified shackles will likely realize benefits because these establishments will be able to process more turkeys by using the J-type cut line speeds than they can process by using the Bar-type cut line speeds. According to ConAgra Foods, the company that petitioned FSIS to amend the NTI System regulations, by using the J-type cut line speeds, a turkey plant processing Bar-type cut turkeys can increase its production capacity by 13 percent. Also according to ConAgra Foods, under typical pricing and operation parameters, this increase will result in increased revenue of $600,000 to $3,000,000 annually per establishment. FSIS requests comments on typical pricing and operation parameters for turkey slaughter establishments. An increase in capacity to process turkeys will allow establishments to receive a greater return on their fixed assets. Consumers may realize benefits as a result of this rule if establishments using the modified shackle pass some of their cost savings along to consumers in the form of reduced prices.

If all 80 turkey slaughter establishments (based on the 2003 ADRS data) install the modified shackles, annual undiscounted benefits could range from $48 million to $240 million. However, it is not realistic to assume that all 80 turkey slaughter establishments would install modified shackles.

The use of the modified shackles for Bar-type cut turkeys, compared to the traditional shackles for these turkeys, changes the presentation of the turkey, so that the inspector need not manipulate the bar skin strip to observe the underside of that flap and the kidney area. Therefore, FSIS may realize benefits because the inspectors would not be required to perform this extra hand motion. The elimination of this extra hand motion may reduce undue fatigue among turkey inspectors. Also, the elimination of the extra hand motion decreases the inspection work load at the Bar-type cut establishments.

Based on in-plant trial data from Bar-type cut turkey slaughter establishments that ran at the J-type cut maximum line speeds and that used the modified shackle described in this proposed rule, this rule would not affect production quality or safety.

Estimated Costs

The costs of this rule would be the costs establishments would incur for purchasing and installing the modified shackles. Establishments would not likely incur these costs unless they would realize benefits. Industry sources estimate that it would cost a typical plant $50,000 to install modified shackles on two assembly lines.

If this rule is adopted, in addition to the two turkey slaughter establishments that use the modified shackles, other turkey slaughter establishments that process whole birds may choose to install modified shackles. Even if all 80 turkey slaughter establishments (based on the 2003 ADRS data) install the modified shackles, the total first-year cost to establishments would only be $4.0 million, based on the cost estimate of $50,000 per establishment.

Regulatory Flexibility Act (RFA)

FSIS has examined the economic implications of the proposed rule as required by the Regulatory Flexibility Act (5 U.S.C 601-612). If a rule has a significant economic impact on a substantial number of small entities, the Regulatory Flexibility Act requires that the regulatory options that would lessen the economic effect of the rule on small entities be analyzed. FSIS has determined that the proposed rule would not have a significant impact on a substantial number of small entities for the reasons discussed below.

One of the establishments using the modified shackle is small and one is large. Under the proposed rule, turkey slaughter establishments would not be required to install modified shackles and are only likely to do so should they incur profits through the faster line speed for the production of whole turkeys. Based on the ADRS data discussed above, there are about 30 small turkey slaughter establishments that could potentially install modified shackles. Very small establishments are not likely to install modified shackles, because they are seasonal turkey processors.

Executive Order 12988

This proposed rule has been reviewed under Executive Order 12988, Civil Justice Reform. This rule: (1) Preempts all State and local laws and regulations that are inconsistent with this rule; (2) has no retroactive effect; and (3) does not require administrative proceedings before parties may file suit in court challenging this rule.

Paperwork Reduction Act

There are no paperwork or recordkeeping requirements associated with this proposed rule under the Paperwork Reduction Act of 1995 (44 U.S.C. 3501-3520).

Public Notification and Request for Data

Public awareness of all segments of rulemaking and policy development is important. Consequently, in an effort to ensure that the public and in particular minorities, women, and persons with disabilities, are aware of this proposed rule, FSIS will announce it on-line through the FSIS Web page located at http://www.fsis.usda.gov/regulations_&_policies/2005_Proposed_Rules_Index/index.asp.

The Regulations.gov Web site is the central online rulemaking portal of the United States Government. It is being offered as a public service to increase participation in the Federal Government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides an automatic and customized notification when popular pages are updated, including Federal Register publications and related documents. This service is available at http://www.fsis.usda.gov/news_and_events/email_subscription/ and allows FSIS customers to sign up for subscription options across eight categories. Options range from recalls to export information to regulations, directives, and notices. Customers can add or delete subscriptions themselves and have the option to password protect their account.

List of Subjects in 9 CFR Part 381

Poultry products inspection, Post-Mortem.

For the reasons discussed in the preamble, FSIS is proposing to amend 9 CFR part 381 as follows:

PART 381—POULTRY PRODUCTS INSPECTION REGULATIONS

1. The authority citation for part 381 continues to read as follows:

Authority: 21 U.S.C. 451 et seq.

2. Section 381.68 would be amended as follows:

a. Paragraph (a) would be amended by revising the first two sentences and by adding a new sentence after the second newly revised sentence;

b. Paragraph (c) would be amended by text after the phrase “particular flock” ; and by revising the table and footnotes.

The revisions and additions would read as follows:

§ 381.68 Maximum inspection rates—New turkey inspection system.

(a) The maximum inspection rates for one inspector New Turkey Inspection (NTI-1 and NTI-1 Modified) and two inspectors New Turkey Inspection (NTI-2 and NTI-2 Modified) are listed in the table below. The line speeds for NTI-1 and NTI-2 are for lines using standard 9-inch shackles on 12-inch centers with birds hung on every shackle and opened with J-type or Bar-type opening cuts. The line speeds for NTI-1 Modified and NTI-2 Modified are for Bar-type cut turkey lines using a shackle with a 4-inch by 4-inch selector (or kickout), a 45 degree bend of the lower 2 inches, an extended central loop portion of the shackle that lowers the abdominal cavity opening of the carcasses to an angle of 30 degrees from the vertical in direct alignment with the inspector's view, and a width of 10.5 inches. * * *

* * * * *

(c) * * * or other factors, including the manner in which birds are being presented to the inspector for inspection and the level of contamination among the birds on the line, * * *

Inspection system | Line configuration | Number of inspectors | Birds/minute: J-type: (<16#) light | Birds/minute: J-type: (>16#) ¹ heavy | Birds/minute: Bar-type: (<16#) light | Birds/minute: Bar-type: (>16#) ¹ heavy
NTI-1 | 12-1 | 1 | 32 | 30 | 25 | 21
NTI-2 | ² 24-2 | 2 | 51 | 41 | 45 | 35
NTI-1 Modified | 12-1 | 1 |  |  | 32 | 30
NTI-2 Modified | ² 24-2 | 2 |  |  | 51 | 41
¹ This weight refers to the bird at the point of post-mortem inspection without blood or feet.
² The turkeys are suspended on the slaughter line at 12-inch intervals with two inspectors each looking at alternating birds at 24-inch intervals.

* * * * *

Done in Washington, DC, on: September 6, 2005.
Barbara J. Masters,
Administrator.

[FR Doc. 05-17887 Filed 9-8-05; 8:45 am]

BILLING CODE 3410-DM-P